DEPARTMENT OF TRANSPORTATION

Federal Aviation Administration

14 CFR Part 39

[Docket No. FAA-2018-0416; Product Identifier 2017-NM-164-AD]

RIN 2120-AA64

Airworthiness Directives; Airbus Defense and Space S.A. (Formerly Known as Construcciones Aeronauticas, S.A.) Airplanes

AGENCY: Federal Aviation Administration (FAA), DOT.

ACTION: Notice of proposed rulemaking (NPRM).

SUMMARY: We propose to adopt a new airworthiness directive (AD) for all Airbus Defense and Space S.A. Model CN-235, CN-235-100, CN-235-200, and CN-235-300 airplanes; and certain Model C-295 airplanes. This proposed AD was prompted by a report that cracks were found on the stabilizer-to-fuselage rear attachment fitting. This proposed AD would require a detailed inspection of the upper and lower lugs of each horizontal stabilizer-to-fuselage rear attachment fitting, repair if necessary, and a report of findings. We are proposing this AD to address the unsafe condition on these products.

DATES: We must receive comments on this proposed AD by July 9, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Defense and Space Services/Engineering Support, Avenida de Aragón 404, 28022 Madrid, Spain; telephone +34 91 585 55 84; fax +34 91 585 31 27; email MTA.TechnicalService@airbus.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0416; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Comments Invited

We invite you to send any written relevant data, views, or arguments about this proposal. Send your comments to an address listed under the ADDRESSES section. Include “Docket No. FAA-2018-0416; Product Identifier 2017-NM-164-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA AD 2017-0218, dated November 8, 2017 (referred to after this as the Mandatory Continuing Airworthiness Information, or “the MCAI”), to correct an unsafe condition for all Airbus Defense and Space S.A. Model CN-235, CN-235-100, CN-235-200, and CN-235-300 airplanes; and certain Model C-295 airplanes. The MCAI states:

Cracks were reportedly found on the stabilizer-to-fuselage rear attachment fitting of a CN-235 aeroplane. Subsequent investigation determined that the affected horizontal attachment fitting was a reworked part.

This condition, if not detected and corrected, could lead to reduced structural integrity of lugs of the stabilizer-to-fuselage rear attachment fittings and consequent lug or fitting failure, possibly resulting in reduced control of the aeroplane.

To address this potentially unsafe condition, Airbus Defence and Space (D&S) issued Alert Operators Transmission (AOT) AOT-C295-55-0005 and AOT-CN235-55-0004 to provide inspection instructions.

For the reasons described above, this [EASA] AD requires a one-time detailed inspection (DET) of the upper and lower lugs of the horizontal stabilizer-to-fuselage rear attachment fittings on the left hand (LH) and right hand (RH) sides and, depending on findings, accomplishment of applicable corrective action(s) [repairs]. This [EASA] AD also requires reporting of all findings, including none.

You may examine the MCAI in the AD docket on the internet at http://www.regulations.gov by searching for and locating Docket No. FAA-2018-0416.

Related Service Information Under 1 CFR Part 51

Airbus Defense and Space S.A. has issued Alert Operators Transmission (AOT) AOT-CN235-55-0004, Revision 1, dated October 24, 2016; and AOT AOT-C295-55-0005, Revision 1, dated October 24, 2016. This service information describes a detailed inspection of the upper and lower lugs of each horizontal stabilizer-to-fuselage rear attachment fitting (left- and right-hand sides), repair if necessary, and sending inspection results to the manufacturer. These documents are distinct since they apply to different airplane models. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 14 airplanes of U.S. registry.

We estimate the following costs to comply with this proposed AD:

Estimated Costs
Action | Labor cost | Parts cost | Cost per product | Cost on U.S. operators
Inspection | 8 work-hours × $85 per hour = $680 | $0 | $680 | $9,520
Reporting | 1 work-hour × $85 per hour = $85 | 0 | 85 | 1,190

We estimate the following costs to do any necessary repair that would be required based on the results of the proposed inspection. We have no way of determining the number of aircraft that might need this repair:

On-Condition Costs
Action | Labor cost | Parts cost | Cost per product
Repair | 15 work-hours × $85 per hour = $1,275 | $0 | $1,275

Paperwork Reduction Act

A federal agency may not conduct or sponsor, and a person is not required to respond to, nor shall a person be subject to penalty for failure to comply with a collection of information subject to the requirements of the Paperwork Reduction Act unless that collection of information displays a current valid OMB control number. The control number for the collection of information required by this NPRM is 2120-0056. The paperwork cost associated with this NPRM has been detailed in the Costs of Compliance section of this document and includes time for reviewing instructions, as well as completing and reviewing the collection of information. Therefore, all reporting associated with this NPRM is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Defense and Space S.A. (Formerly Known as Construcciones Aeronauticas, S.A.): Docket No. FAA-2018-0416; Product Identifier 2017-NM-164-AD.

(a) Comments Due Date

We must receive comments by July 9, 2018.

(b) Affected ADs

None.

(c) Applicability

This AD applies to Airbus Defense and Space S.A. Model airplanes, certificated in any category, specified in paragraphs (c)(1) and (c)(2) of this AD.

(1) Model CN-235, CN-235-100, CN-235-200, and CN-235-300 airplanes, all manufacturer serial numbers (MSN).

(2) Model C-295 airplanes, MSN 001 through 148 inclusive.

(d) Subject

Air Transport Association (ATA) of America Code 55, Horizontal stabilizer.

(e) Reason

This AD was prompted by a report that cracks were found on the stabilizer-to-fuselage rear attachment fitting. We are issuing this AD to address such cracking, which could lead to reduced structural integrity of the lugs on the stabilizer-to-fuselage rear attachment fittings and consequent lug or fitting failure, and could result in reduced controllability of the airplane.

(f) Compliance

Comply with this AD within the compliance times specified, unless already done.

(g) Inspection

Within the compliance times specified in figure 1 or figure 2 to paragraph (g) of this AD, as applicable, accomplish a detailed inspection for cracks or rework of the upper and lower lugs of each horizontal stabilizer-to-fuselage rear attachment fitting (left- and right-hand sides), in accordance with the instructions of Airbus Defence and Space Alert Operators Transmission (AOT) AOT-CN235-55-0004, Revision 1, dated October 24, 2016; or Airbus Defence and Space AOT AOT-C295-55-0005, Revision 1, dated October 24, 2016; as applicable.

(h) Corrective Action

If, during the detailed inspection required by paragraph (g) of this AD, any discrepancy (i.e., cracking or rework) is detected, as specified in Airbus Defence and Space AOT AOT-CN235-55-0004, Revision 1, dated October 24, 2016; or Airbus Defence and Space AOT AOT-C295-55-0005, Revision 1, dated October 24, 2016; as applicable: Before further flight, contact the Manager, International Section, Transport Standards Branch, FAA; or the European Aviation Safety Agency (EASA); or Airbus Defense and Space S.A.'s EASA Design Organization Approval (DOA), for approved repair instructions. If approved by the DOA, the approval must include the DOA-authorized signature. Accomplish the repair accordingly within the compliance time specified in those instructions, including any repetitive post-repair inspections, if applicable.

(i) Reporting Requirement

Submit a one-time report of the findings (both positive and negative) of the inspection required by paragraph (g) of this AD to Airbus Defense and Space S.A., in accordance with Airbus Defence and Space AOT AOT-CN235-55-0004, Revision 1, dated October 24, 2016; or Airbus Defence and Space AOT AOT-C295-55-0005, Revision 1, dated October 24, 2016; as applicable; at the applicable time specified in paragraph (i)(1) or (i)(2) of this AD.

(1) If the inspection was done on or after the effective date of this AD: Submit the report within 60 days after the inspection.

(2) If the inspection was done before the effective date of this AD: Submit the report within 60 days after the effective date of this AD.

(j) Parts Installation Limitations

As of the effective date of this AD, no person may install, on any airplane, a horizontal stabilizer-to-fuselage rear attachment fitting, unless the part is new or it has been inspected in accordance with instructions of Airbus Defence and Space AOT AOT-CN235-55-0004, Revision 1, dated October 24, 2016; or Airbus Defence and Space AOT AOT-C295-55-0005, Revision 1, dated October 24, 2016; as applicable; and no discrepancy was found. Before installation of the horizontal stabilizer-to-fuselage rear attachment fitting, contact the Manager, International Section, Transport Standards Branch, FAA; or the EASA; or Airbus Defense and Space S.A.'s EASA DOA, for approved instructions and do those instructions accordingly. If approved by the DOA, the approval must include the DOA-authorized signature.

(k) Credit for Previous Actions

This paragraph provides credit for actions required by paragraphs (g), (h), and (i) of this AD, if those actions were performed before the effective date of this AD using Airbus Defence and Space AOT AOT-CN235-55-0004, dated December 22, 2015; or Airbus Defence and Space AOT AOT-C295-55-0005, December 22, 2015; as applicable.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Airbus Defense and Space S.A.'s DOA. If approved by the DOA, the approval must include the DOA-authorized signature.

(3) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Related Information

(1) Refer to Mandatory Continuing Airworthiness Information (MCAI) EASA AD 2017-0218, dated November 8, 2017, for related information. This MCAI may be found in the AD docket on the internet at http://www.regulations.gov by searching for and locating Docket No. FAA-2018-0416.

(2) For more information about this AD, contact Shahram Daneshmandi, Aerospace Engineer, International Section, Transport Standards Branch, FAA, 2200 South 216th St., Des Moines, WA 98198; telephone and fax 206-231-3220.

(3) For service information identified in this AD, contact Airbus Defense and Space Services/Engineering Support, Avenida de Aragón 404, 28022 Madrid, Spain; telephone +34 91 585 55 84; fax +34 91 585 31 27; email MTA.TechnicalService@airbus.com. You may view this service information at the FAA, Transport Standards Branch, 2200 South 216th St., Des Moines, WA. For information on the availability of this material at the FAA, call 206-231-3195.

Issued in Des Moines, Washington, on May 11, 2018.
Michael Kaszycki,
Acting Director, System Oversight Division, Aircraft Certification Service.

[FR Doc. 2018-11142 Filed 5-24-18; 8:45 am]

BILLING CODE 4910-13-P